DEPARTMENT OF ENERGY

Federal Energy Regulatory Commission

Combined Notice of Filings # 1

February 29, 2008.

Take notice that the Commission received the following exempt wholesale generator filings:

Docket Numbers: EG08-44-000

Applicants: Starwood Power-Midway, LLC.

Description: Starwood Power-Midway, LLC Notice of Self-Certification of Exempt Wholesale Generator Status.

Filed Date: 02/27/2008.

Accession Number: 20080227-5035.

Comment Date: 5 p.m. Eastern Time on Wednesday, March 19, 2008.

Take notice that the Commission received the following electric rate filings:

Docket Numbers: ER00-2268-025; ER07-428-004; ER99-4122-026; ER99-4124-022; EL07-82-001.

Applicants: Pinnacle West Capital Corporation; Pinnacle West Marketing & Trading Co, LLC; APS Energy Services Co Inc.; Arizona Public Service Company.

Description: Electric Compliance Refund Report of the Pinnacle West Companies.

Filed Date: 02/28/2008.

Accession Number: 20080228-5074.

Comment Date: 5 p.m. Eastern Time on Thursday, March 20, 2008.

Docket Numbers: ER02-1437-006.

Applicants: Triton Power Michigan LLC.

Description: Notice of Non-Material Change in Status of Triton Power Michigan LLC.

Filed Date: 02/28/2008.

Accession Number: 20080228-5037.

Comment Date: 5 p.m. Eastern Time on Thursday, March 20, 2008.

Docket Numbers: ER07-1199-002.

Applicants: Airtricity Munnsville Wind Farm, LLC.

Description: Airtricity Munnsville Wind Farm, LLC submits Substitute Original Sheet 4 and 5 to reflect their deletion under ER07-1199.

Filed Date: 02/25/2008.

Accession Number: 20080228-0164.

Comment Date: 5 p.m. Eastern Time on Monday, March 17, 2008.

Docket Numbers: ER08-413-001; EC08-33-001.

Applicants: Startrans IO, LLC.

Description: Startrans IO, LLC submits their response to FERC's 2/22/08 deficiency letter.

Filed Date: 02/27/2008.

Accession Number: 20080228-0297.

Comment Date: 5 p.m. Eastern Time on Monday, March 10, 2008.

Docket Numbers: ER08-441-001.

Applicants: Velocity American Energy Master I, L.P.

Description: Velocity American Energy Master I, LP submits an Amendment to the application for Order Accepting Market Based Rate Tariff etc.

Filed Date: 02/27/2008.

Accession Number: 20080229-0071.

Comment Date: 5 p.m. Eastern Time on Wednesday, March 19, 2008.

Docket Numbers: ER08-444-001.

Applicants: NSTAR Electric Company.

Description: NSTAR Electric Co et al submits their three-year market-based rate update and request for exemption of the Category 2 Seller's filing.

Filed Date: 02/25/2008.

Accession Number: 20080228-0166.

Comment Date: 5 p.m. Eastern Time on Monday, March 17, 2008.

Docket Numbers: ER08-460-001.

Applicants: Entergy Gulf States Louisiana, L.L.C. an

Description: Entergy Gulf States Louisiana, LLC and Entergy Texas, Inc submits an errata to the 1/22/08 Notices of Succession.

Filed Date: 02/27/2008.

Accession Number: 20080228-0298.

Comment Date: 5 p.m. Eastern Time on Wednesday, March 19, 2008.

Docket Numbers: ER08-536-001.

Applicants: Polytop Corporation.

Description: Polytop Corp submits a Petition for Acceptance of Initial Tariff, Waivers and Blanket Authority.

Filed Date: 02/27/2008.

Accession Number: 20080229-0072.

Comment Date: 5 p.m. Eastern Time on Wednesday, March 19, 2008.

Docket Numbers: ER08-581-000.

Applicants: Altorfer Inc.

Description: Altorfer Inc submits a notice of cancellation of FERC Electric Tariff, Original Volume 1, to become effective 1/1/08.

Filed Date: 02/11/2008.

Accession Number: 20080222-0112.

Comment Date: 5 p.m. Eastern Time on Monday, March 10, 2008.

Docket Numbers: ER08-599-000.

Applicants: American Electric Power Service Corporation.

Description: American Electric Power Service Corp agent for AEP Operating Companies submits a sixth revision to the Interconnection and Local Delivery Agreement with Blue Ridge Power Authority.

Filed Date: 02/27/2008.

Accession Number: 20080228-0303.

Comment Date: 5 p.m. Eastern Time on Wednesday, March 19, 2008.

Docket Numbers: ER08-600-000.

Applicants: Kansas City Power & Light Company

Description: Kansas City Power & Light Company submits Amendatory Agreement 9 to FERC Rate Schedule 101.

Filed Date: 02/27/2008.

Accession Number: 20080228-0302.

Comment Date: 5 p.m. Eastern Time on Wednesday, March 19, 2008.

Docket Numbers: ER08-601-000.

Applicants: Kansas City Power & Light Company.

Description: Kansas City Power and Light Co submits cancellation of Rate Schedule FPC 42.

Filed Date: 02/27/2008.

Accession Number: 20080228-0301.

Comment Date: 5 p.m. Eastern Time on Wednesday, March 19, 2008.

Docket Numbers: ER08-602-000.

Applicants: Puget Sound Energy, Inc.

Description: Puget Sound Energy, Inc submits an Amendment 1 to Facilities and Interconnection Agreement dated as of 1/31/08 with Public Utility District 2 of Grant County, WA.

Filed Date: 02/27/2008.

Accession Number: 20080228-0300.

Comment Date: 5 p.m. Eastern Time on Wednesday, March 19, 2008.

Docket Numbers: ER08-603-000.

Applicants: Conectiv Delmarva Generation LLC.

Description: Conectiv Delmarva Generation, LLC notified FERC that as a result of conversion of Conectiv Delmarva Generation, Inc from Delaware Corp to a Delaware limited Liability Co, CDG, LLC has succeeded and adopts their Rate Schedule 1.

Filed Date: 02/27/2008.

Accession Number: 20080228-0299.

Comment Date: 5 p.m. Eastern Time on Wednesday, March 19, 2008.

Docket Numbers: ER08-604-000.

Applicants: Westar Energy, Inc.

Description: Westar Energy, Inc submits a Notice of Cancellation of an Electric Power Supply Agreement with the City of Centralia, Kansas.

Filed Date: 02/28/2008.

Accession Number: 20080229-0061.

Comment Date: 5 p.m. Eastern Time on Thursday, March 20, 2008.

Docket Numbers: ER08-605-000.

Applicants: NSTAR Electric Company.

Description: NSTAR Electric Co files a notice of succession in order to change the name on Boston Edison Co's Phase I/II HVDC-TF Service Schedule etc.

Filed Date: 02/28/2008.

Accession Number: 20080229-0060.

Comment Date: 5 p.m. Eastern Time on Thursday, March 20, 2008.

Docket Numbers: ER08-606-000.

Applicants: Cambridge Electric Light Company and Com.

Description: NSTAR Electric & Gas Corp et al files notices of cancellation of Phase I/II HVDC-TC Service Schedules to Schedule 20A of ISO New England Inc's Open Access Transmission Tariff, to be effective 1/1/07.

Filed Date: 02/28/2008.

Accession Number: 20080229-0059.

Comment Date: 5 p.m. Eastern Time on Thursday, March 20, 2008.

Docket Numbers: ER08-607-000.

Applicants: Florida Power & Light Company.

Description: Florida Power & Light Co submits the new Rate Schedule 315, Agreement for Specified Services with Brevard Energy LLC.

Filed Date: 02/28/2008.

Accession Number: 20080229-0058.

Comment Date: 5 p.m. Eastern Time on Thursday, March 20, 2008.

Docket Numbers: ER08-608-000.

Applicants: Florida Power & Light Company.

Description: Florida Power & Light Co submits the Brevard Energy LLC Parallel Operation Agreement with the Seminole Electric Cooperative, Inc.

Filed Date: 02/28/2008.

Accession Number: 20080229-0057.

Comment Date: 5 p.m. Eastern Time on Thursday, March 20, 2008.

Docket Numbers: ER08-609-000.

Applicants: Endure Energy, LLC

Description: Endure Energy, LLC submits a Petition for Acceptance of Initial Tariff, Waivers and Blanket Authority.

Filed Date: 02/28/2008.

Accession Number: 20080229-0056.

Comment Date: 5 p.m. Eastern Time on Thursday, March 20, 2008.

Docket Numbers: ER08-610-000.

Applicants: Northeast Utilities Service Company.

Description: Northeast Utilities Service Co et al submits an executed Amended and Restated Agreement.

Filed Date: 02/28/2008.

Accession Number: 20080229-0062.

Comment Date: 5 p.m. Eastern Time on Thursday, March 20, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC.

There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-4477 Filed 3-6-08; 8:45 am]

BILLING CODE 6717-01-P